DEPARTMENT OF THE INTERIOR

Bureau of Land Management

[ID-304-2821-HU-DU8G]

Notice of closure; emergency/safety, Idaho

AGENCY: Bureau of Land Management, Interior.

ACTION: Notice of closure—emergency/safety, Idaho.

SUMMARY: The Bureau of Land Management, in coordination with the Salmon-Challis National Forest, has closed the Darling Creek road and associated connecting roads and trails while the agencies fight the Shower Bath Fire, approximately 10 miles north of Challis, Idaho.

DATES: The closure is effective immediately, and will remain in place through the duration of the Shower Bath Fire, or until such time as the Authorized Officer determines the roads are again safe for public use.

ADDRESSES: The address of the BLM Authorized Officer is: Field Manager, Challis Field Office (CFO), 801 Blue Mountain Road, Challis, Idaho 83226.

FOR FURTHER INFORMATION CONTACT: David Rosenkrance, BLM Challis Field Manager, (208) 879-6206.

Authority: This emergency closure notice is issued under the authority of 43 CFR 8364.1(a). Violations of this closure are punishable by a fine not to exceed $1,000 or imprisonment not to exceed 12 months. Persons who are administratively exempt from the closure include any Federal, State, or local officer or employee acting within the scope of their duties, members of any organized rescue or fire-fighting force in the performance of an official duty, or any person holding written permission from the BLM.

Dated: August 15, 2007.
David Rosenkrance,
Challis Field Manager.

[FR Doc. E7-16620 Filed 8-21-07; 8:45 am]

BILLING CODE 4310-GG-P